DEPARTMENT OF JUSTICE

Federal Bureau of Prisons

Notice of Availability of the Record of Decision for Proposed Contract Award to House Federal, Low-Security Criminal Aliens Within a Contractor-Owned and Operated Correctional Facility

AGENCY: U.S. Department of Justice, Federal Bureau of Prisons.

ACTION: Notice of a Record of Decision.

SUMMARY: The U.S. Department of Justice, Federal Bureau of Prisons (BOP) announces the availability of the Record of Decision (ROD) concerning the proposed award of a contract to house approximately 1,750 (+/− 30 percent) Federal, low-security, adult male, non-U.S. citizen, criminal aliens, with 90 months or less remaining to serve on their sentences, within a contractor-owned and operated correctional facility.

Background Information

Pursuant to Section 102(2)(c) of the National Environmental Policy Act of 1969 and the Council of Environmental Quality Regulations (40 CFR parts 1500-1508), the BOP has prepared Draft and Final Environmental Impact Statements (EISs) for the proposed award of a contract to house Federal, non-U.S. citizen, criminal aliens within a contractor-owned and operated correctional facility.

Project Information

The Federal Bureau of Prisons (BOP) faces continued growth in its inmate population resulting from on-going Federal law enforcement programs. Over the period encompassing Fiscal Year (FY) 2010 through FY 2015, the BOP anticipates the total Federal inmate population to increase from approximately 210,227 to 239,344. Of the approximately 29,000 inmates to be added to the Federal prison system during this time, the BOP is projecting approximately 8,000 to be low-security inmates. In housing these and other inmates, the BOP relies upon community-correction, detention and correctional facilities that are either federally-owned and operated (i.e., BOP facilities); federally-owned and non-federally operated; or non-federally owned and operated (i.e., contractor facilities).

Presently, the BOP is responsible for housing approximately 27,000 low-security criminal aliens and due to limitations on bedspace within BOP-operated Federal Correctional Institutions (FCI), approximately 25,000 such inmates are housed in contractor-owned and operated facilities. The projected number of sentenced criminal aliens and continued limitations on capacity within the BOP's low-security FCIs will ensure further reliance upon contractor-owned and operated correctional facilities to house a large portion of this inmate population. The BOP contracts with such operators to house and service a portion of the criminal alien population. Periodically, such contracts expire, and as long as needs persist, they are re-competed in accordance with BOP procedures and Federal Acquisition Regulations. One such contract, scheduled to expire in 2012, involves approximately 1,750 low-security criminal aliens currently housed at the McRae Correctional Center located in McRae, Georgia.

In order to ensure that the criminal alien population currently incarcerated at the McRae Correctional Center continues to be properly housed and supervised in a contractor-owned and operated facility, the BOP undertook a nationwide procurement. Under the Criminal Alien Requirement 12 procurement (RFP-PCC-0017), the BOP solicited proposals to house approximately 1,750 (+/− 30 percent) Federal, low-security, adult male, non-U.S. citizen, criminal aliens, with 90 months or less remaining to serve on their sentences, within a contractor-owned and operated correctional facility. The BOP's procurement solicitation stated that the requirement would be fulfilled through a single award.

The BOP requires flexibility in managing the shortage of beds at the low-security level as well as the anticipated future increases at this security level. Such management flexibility, involving the use of privately-owned and operated facilities, would help to meet population capacity needs in a timely fashion, conform to Federal law, and maintain fiscal responsibility while successfully meeting the mission of the BOP. That mission is to protect society by confining offenders in the controlled environments of prison and community-based facilities that are safe, humane, cost-efficient, and appropriately secure, and that provide work and other self-improvement opportunities to assist offenders in becoming law-abiding citizens.

The BOP issued a Draft EIS in June 2011 with publication of the Notice of Availability (NOA) in the Federal Register on June 24, 2011. The NOA provided a start date for the 45-day public comment period beginning on June 24, 2011, and ending on August 8, 2011. During the public comment period, public hearings concerning the proposed action and the Draft EIS were held on July 7, 2011 in Scott County, Mississippi; July 13, 2011 in McRae, Georgia; and August 4, 2011 in Hinton, Oklahoma.

The Final EIS addressed comments received on the Draft EIS and publication of the NOA in the Federal Register concerning the Final EIS occurred on September 9, 2011. The 30-day review period for receipt of public comments concerning the Final EIS ended on October 11, 2011, during which time comment letters and similar forms of communication were received by the BOP. Comments received by the BOP concerning the Final EIS were similar to those comments received by the BOP concerning the Draft EIS and all such comments were considered in the decision presented in the ROD.

BOP provided written notices of the availability of the Draft EIS and Final EIS in the Federal Register, three newspapers with local and regional circulations, and through three local public libraries. The BOP also distributed approximately 170 copies (each) of the Draft EIS and Final EIS to Federal agencies, state and local governments, elected officials, interested organizations and individuals.

The BOP evaluated alternatives as part of the EIS including the No Action Alternative; implementation of the proposed action in Hinton, Oklahoma involving use of the Great Plains Correctional Facility; in McRae, Georgia involving use of the existing or an expanded McRae Correctional Center; and implementation of the proposed action in Scott County, Mississippi involving development of a new contractor-owned and operated correctional facility to house the Federal inmate population. Each of the alternatives in Hinton, Oklahoma; McRae, Georgia; and Scott County, Mississippi were examined in detail in the Draft and Final EISs with contract award to the McRae Correctional Center in McRae, Georgia considered to be the Preferred Alternative.

Availability of Record of Decision

The Record of Decision and other information regarding this undertaking are available upon request. To request a copy of the Record of Decision, please contact: Richard A. Cohn, Chief, or Issac J. Gaston, Site Selection Specialist, Capacity Planning and Site Selection Branch, Federal Bureau of Prisons, 320 First Street, NW., Washington, DC 20534; Tel: 202-514-6470/Fax: 202-616-6024/E-mail: racohn@bop.gov.

FOR FURTHER INFORMATION CONTACT: Richard A. Cohn, Federal Bureau of Prisons.

Dated: October 19, 2011.
Richard A. Cohn,
Chief, Capacity Planning and Site Selection Branch.

[FR Doc. 2011-27728 Filed 10-26-11; 8:45 am]

BILLING CODE P